ENVIRONMENTAL PROTECTION AGENCY

[FRL-6858-9]

U.S./Mexico Border Program; Request for Proposals

AGENCY: Environmental Protection Agency (EPA).

ACTION: Solicitation notice; Building Environmental Education Capacity Along the US/Mexico Border—in Region VI.

SUMMARY: This document solicits proposals from education institutions, environmental and educational public agencies, and not-for-profit organizations to assist the U.S. EPA Region VI in the implementation of the draft Border XXI Environmental Education (EE) Plan for the US/Mexico Border in the Lower Rio Grande Valley Region (Brownsville-Matamoros, McAllen-Reynosa, Laredo-Nuevo Laredo and surrounding communities). This solicitation notice contains all the information necessary to prepare a proposal. Federal forms are available on line, please see III, A. for web-site information. This solicitation notice is also available on line at: http://www.epa.gov/usmexicoborder/. If your proposal is selected as a finalist after the evaluation process is concluded, EPA will provide you with the additional Federal forms needed to process your proposal. This cooperative agreement will be awarded in the amount of $100,000 and the recipient will be required to provide a 5% match ($5,000). Please see section III., C. for additional information on matching funds.

A cooperative agreement was selected as the funding mechanism for this project since various EPA offices will be involved in project planning, implementation, and evaluation. Environmental Education programming activities in the border region are authorized under various sections of the following acts: Clean Water Act, section 104(b)(3); Safe Drinking Water Act, section 1442(b)(3); Solid Waste Disposal Act sections 6981 and 8001; Clean Air Act sections 103 and 7403; Toxic Substances Control Act, section 10(a); and Comprehensive Environmental Response and Sanctuaries Act, section 311(a).

DATES: An original proposal signed by an authorized representative plus one copy, must be mailed to EPA postmarked no later than November 21, 2000. Proposals postmarked after that date will not be considered for funding. EPA expects to make the award in early January 2001. Applicants should anticipate project start dates for January, 2001.

ADDRESSES: Applicants may submit proposals via regular U.S. mail, or express mail to the following address: Amadee Madril (6WQ-CO), U.S. Environmental Protection Agency, Region VI, 1445 Ross Avenue, Suite 1200, Dallas, TX 75202, Telephone (214) 664-2767.

FOR FURTHER INFORMATION CONTACT: Amadee Madril, U.S. Environmental Protection Agency, Region VI, Telephone (214) 664-2767 or E-Mail: madril.amadee@epa.gov.

SUPPLEMENTARY INFORMATION:

Section I: Overview, Background, and Deadlines

A. Environmental Education Versus Environmental Information

Environmental Education increases public awareness and knowledge about environmental issues and provides the skills to make informed decisions and take responsible actions. It does not advocate a particular viewpoint or course of action. It teaches individuals how to weigh various sides of an issue through critical thinking and it enhances their own problem-solving skills. Simply providing or “distributing” environmental information such as scientific facts or opinions about environmental issues or problems, is not considered to be environmental education. Although information is an essential element of any educational effort, environmental information is not, by itself, environmental education.

B. Background of the Border XXI EE Plan

The Border XXI EE Plan is based on a program development model known as TEEM (Training and Environmental Education Materials) which was created through a collaborative effort led by the North American Association for Environmental Education and the U.S. Peace Corps with funding from EPA's Office of Environmental Education and the U.S. Agency for International Development. The TEEM model has a proven track record in building local capacity and empowering communities to play integral roles in protecting their environment and conserving natural resources. The TEEM model is locally driven and based on needs identified by educators who have a first-hand understanding of the issues relevant to their individual communities. Ultimately, our aim is to establish a network that links U.S. and Mexican EE providers that will be responsible for improving access to EE materials/information, and developing and implementing professional/organizational development activities. The network will build stability and develop synergy through partnerships by coordinating activities, leveraging resources, capitalizing on the relative expertise of partners, and, in general, working together to achieve common goals.

The plan is designed to overlap with work already being conducted by local EE provider agencies and organizations along the entire border. Indeed TEEM efforts are currently underway in Arizona, California, Sonora, Chihuahua, and Baja California. Participants in this regional TEEM effort will be asked to take responsibility for identifying their own EE training needs, and then designing, implementing and evaluating the strategies that will meet those needs. This effort will incorporate the experiences already gained in other areas of the border.

C. Implementing the TEEM Model in Region VI

In order to achieve the overarching goal of building EE capacity in the border region, the following general objectives and tasks have already been identified through a collaborative process with government agencies and non profit EE providers from the border region. Note: when reviewing the objectives and tasks please recognize that the TEEM model is locally driven. The following tasks and objectives do not offer extensive detail so that the unfolding of the process can occur with maximum input and flexibility from participants in the region.

Objectives

• Identify priority regional environmental issues and environmental literacy needs;

• Assess EE Provider needs for program improvement;

• Plan strategies, programs, or projects to meet these needs;

• Form support networks to help implement those strategies, programs or projects; create a broad base of support that will help monitor program progress, evaluate impacts of programs and make proper adjustments for future sustainability.

Tasks

Form a Core Planning Team: Through EPA Region VI's efforts in the development of a “Border EE Resource Guide,” an idea has emerged as to “who” the EE providers are in the region. The next step will be to identify and form a core planning team of two or three of the area's leading EE providers. Additionally, this team should also include representatives with experience in the implementation of the TEEM model from other areas of the border. The Core Planning Team will then develop a mission statement which will serve as the driving force to allocate funding, invite extended participation, and publicize the TEEM effort. The core planning team will also take responsibility to begin identifying a baseline of available resources and begin to classify regional EE needs to better assemble a local organizing committee. Products resulting from the completion of this task might include: mission statement and initial needs assessment with priorities for action.

Convene a Local Organizing Committee: The next step of the Core Planning Team will be to analyze the EE providers from the region and convene a local organizing committee. Key criteria for selecting organizations should include: ability to commit resources (financial and human), geographic area of coverage, audiences targeted, environmental issues addressed, technical preparation (both science and education), quality of work completed, willingness to collaborate, and geographic location. Products resulting from the completion of this task might include: Clarification of selection criteria for Organizing Committee membership, analysis and report on existing EE program providers, invitations for participation tendered.

Identify the Needs of the Region: The Local Organizing Committee will identify the needs of the EE providers in the region. Simply put, what do EE providers need to do their jobs better? This information may be sought using interviews, questionnaires, focus groups or other means. Involving the groups themselves in the needs assessment process will be key to this task. Products resulting from the completion of this task should include, but are not limited to: Needs Assessment Report on EE in the region.

Develop Strategies, Programs and Project Options: Based on the results from the needs assessment, the Local Organizing Committee will be ready to design a strategy, program or project to meet the needs of the EE practitioners in the region. Examples of projects might include: training workshops (train-the-trainers, project planning and evaluation, curriculum development, non-formal strategies), organizational development (budgeting, leadership and communication skills, strategic planning), access to networks, information, or quality materials, etc.

Important to this phase of the process is to develop a monitoring and evaluation system for the project to measure progress, assess impact, and make changes to the project for the future based on past performance.

Products resulting from the completion of this task might include: Action Plan for the region, prioritized list of strategies to reach EE practitioners.

Select a Project(s)/Target Audience(s) for Implementation: The Organizing Committee will need to prioritize project options for reaching EE practitioners in the region. It will be essential therefore to select participants in the program who will either impact large numbers of people or be involved in the support of other organizations that provide those EE services to the population. The focus at this level is on the EE provider, the organizing committee should not be looking directly at providing EE services to the population. Products resulting from the completion of this task might include: Project(s) implementation, production of newsletter/report on projects.

Build in Follow-up Support for the Long Run: Careful consideration by the Local Organizing Committee needs to be given on how the process will continue into the future. Some strategic questions to consider include: how will the EE practitioners meet their needs in the long run, and where will the funding come from? By developing a broad base of support at the Local Organizing Committee level with representatives from a variety of organizations, Region VI will be better equipped to handle and plan for some of these difficult long-term issues.

Section II: Eligibility

Any local education agency, state education or environmental agency, college or university, not-for-profit organization as described in section 501(C)(3) of the Internal Revenue Code, or noncommercial educational broadcasting entity may submit proposal. Applicant organizations must be located in border region the United States and the majority of the educational activities must take place in the United States. A teacher's school district, an educator's nonprofit organization, or a faculty member's college or university may apply, but an individual teacher, educator, or faculty member may not.

Additionally: The recipient of this award must have experience with environmental education in the Border area, and the capability to provide training in both English and Spanish. The recipient will have a proven record of developing partnerships with key EE providers in the border region, and be recognized as a regional leader. EPA emphasizes the importance of working with and developing partners and partnerships as a key to the selection of the recipient.

Section III: Requirements for Proposals and Matching Funds

The proposal must contain two standard federal forms, a work plan with budget, and appendices, as described below. Please follow instructions and do not submit additional items.

A. Federal Forms

Application for Federal Assistance (SF-424) and Budget Information (SF-424A): The SF-424 and SF-424A are required for all federal cooperative agreements and must be submitted as part of your proposal. These two forms are available on-line as follows:

OMB SF-424, Application for Federal Assistance (PDF 10.1 kb) http://www.whitehouse.gov/media/pdf/sf424.pdf OMB SF-424A, Budget Information—Nonconstruction Programs (PDF 15.4 kb) http://www.whitehouse.gov/media/pdf/sf424a.pdf.

Forms are also available in hard copy via fax or mail by calling (214) 665-2767. Only finalists will be asked to submit additional federal forms needed to process their proposal. EPA will make copies of your proposal for use by reviewers. Unnecessary forms create a paperwork burden for the reviewers.

B. Work Plan and Appendices

Since general objectives and tasks are already laid out for the Border XXI Plan, the work plan required for this solicitation will focus more on how an organization proposes to achieve them. The following sections must be included in the proposal. (Page numbers in parenthesis are MAXIMUMS, please do not exceed them).

1. Project Summary (One Page)

Organization: describe your organization (include goals/objectives/mission statements, etc) and the partners you plan to involve.

Project Summary: Summarize how you will accomplish the proposed objectives and tasks, and why your organization is qualified for doing so.

Costs: List the types of activities for which the EPA portion of the funds will be spent. The project summary will be scored on how well you provide an overview of your entire proposal using the topics stated above.

2. Project Implementation Description (Four Pages)

How. Describe in detail HOW you plan to accomplish each of the tasks listed above. Please be as specific as possible. Include partners, and other sources of information and resources that will assist you in completing the tasks. Also, please identify additional tasks that you feel would be necessary to complete to achieve the overall plan's objectives.

Why. Please describe in detail WHY your organization is particularly qualified to for the project. Include a project history, educational products your organization has completed, and list partner organizations that have helped you accomplish your mission.

3. Project Evaluation (One Page)

Describe how you will ensure you are accomplishing the objectives of the TEEM process as set forth above. Evaluation plans may be quantitative and/or qualitative and may include, for example, evaluation tools, observation, or outside consultation. The project evaluation will be scored on how well your plan will measure project effectiveness and apply evaluation data during the project to strengthen it.

4. Budget (One Page)

Clarify how EPA funds and non-federal matching funds will be used for specific items or activities, such as personnel/salaries, fringe benefits, travel, equipment, supplies, contract costs, and indirect costs. Include a table which lists each major proposed activity, and the amount of EPA funds and/or matching funds that will be spent on each activity. Budget periods cannot exceed two-years.

Please Note the following funding restrictions:

• Indirect costs may be requested only if your organization has already prepared an indirect cost rate proposal and has it on file, subject to audit.

• Funds for salaries and fringe benefits may be requested only for those personnel who are directly involved in implementing the proposed project and whose salaries and fringe benefits are directly related to specific products or outcomes of the proposed project. EPA strongly encourages applicants to request reasonable amounts of funding for salaries and fringe benefits to ensure that your proposal is competitive.

• EPA will not fund the acquisition of real property (including buildings) or the construction or modification of any building.

The budget section will be scored on how well the budget information clearly and accurately shows how funds will be used; and whether the funding request is reasonable given the activities proposed.

5. Appendices

Please include the following:

Time line. The time line should link the activities to a clear project schedule and indicate at what point over the months of your budget period each action, event, product, etc. occurs;

Key Personnel. Attach a one page resume for the key personnel conducting the project (Maximum of three resumes please).

Letters of Commitment. Include one page letters of commitment from partners explaining their role in the proposed project. Do not include letters of endorsement or recommendation or have them mailed in later; they will not be considered in evaluating proposals. Please do not submit other appendices or attachments such as video tapes or sample curricula. The appendices section will be scored based upon: (1) Whether the time line clarifies the work plan and allows reviewers to determine that the project is well thought out and feasible as planned; (2) whether the key personnel are qualified to implement the proposed project; and (3) whether letters of commitment are included and the extent to which a firm commitment is made.

C. Matching Funds Requirement

Non-federal matching funds of at least $5,000 (5% of the $100,000 award) are required. EPA encourages matches of more than 5%. The 5% match may be provided by the applicant alone, or, preferably in combination with partner organizations. The match may be provided in cash or by in-kind contributions and other non-cash support. In-kind contributions often include salaries or other verifiable costs and this value must be carefully documented. In the case of salaries, applicants may use either minimum wage or fair market value.

Other Federal Funds: You may use other Federal funds in addition to those provided by this program, but not for activities that EPA is funding. You may not use any federal funds to meet any part of the required 5% match described above, unless it is specifically authorized by statute. If you have already been awarded federal funds for a project for which you are seeking additional support from this solicitation, you must indicate those funds in the budget section of the work plan. You must also identify the project officer, agency, office, address, phone number, and the amount of the federal funds.

D. Submission Requirements and Copies

The applicant must submit one original and one copy of the proposal (a signed SF-424, an SF-424A, a work plan, a budget, and the appendices listed above). Do not include other attachments such as cover letters, tables of contents, additional Federal forms or appendices other than those listed above. Reviewers may lower scores on proposals for failure to follow instructions. The SF-424 should be the first page of your proposal and must be signed by a person authorized to receive funds. Blue ink for signatures is preferred. Proposals must be reproducible; they should not be bound. They should be stapled or clipped once in the upper left hand corner, on white paper, and with page numbers. Mailing addresses for submission of proposals are listed in Section I, subparagraph F of this document.

Section IV: Review and Selection Process

A. Proposal Review

Proposals submitted to EPA will be evaluated using the criteria defined in section III and IV of this solicitation. Proposals will be reviewed in two phases—the screening phase and the evaluation phase. During the screening phase, proposals will be reviewed to determine whether they meet the basic requirements of the solicitation. Only those proposals which meet all of the basic requirements will enter the full evaluation phase of the review process. During the evaluation phase, proposals will be evaluated based upon the quality of their work plans. At the conclusion of the evaluation phase, the reviewers will score work plans on a scale from 0-100 as follows: Project Summary—10 Points; Project Implementation Description—40 Points (up to 10 points for partnerships); Project Evaluation—10 Points; Budget—15 Points; Appendices—15 Points; Bonus Points—10 Points (reviewers grant these for outstanding proposals, or special circumstances).

B. Final Selections

After individual proposals are evaluated and scored by reviewers, as described under section III and IV, EPA officials in Region VI and at Headquarters will select a diverse range of finalists from the highest ranking proposals. In making the final selections, EPA will take into account the following:

• Effectiveness of collaborative activities and partnerships, as needed to successfully develop or implement the project;

• Demonstrated leadership in the field of environmental education in the US/Mexico Border Region;

• Cost effectiveness of the proposal; and

• Organizational and administrative capacity to manage federal funds

C. Notification to Applicants

Applicants will receive a confirmation that EPA has received their proposal. EPA will notify applicants about the outcome of their proposal when the award is made in September, 2000.

Section VI: Award Recipient Responsibilities

A. Responsible Officials

The project must be performed by the applicant or by a person satisfactory to the applicant and EPA. The proposal must identify any person other than the applicant who will assist in carrying out the project. These individuals are responsible for receiving the cooperative agreement award agreement from EPA and ensuring that all cooperative agreement conditions are satisfied.

B. Incurring Costs

The recipient may begin incurring costs on the start date identified in the EPA award agreement. Activities must be completed and funds spent within the time frames specified in the agreement.

C. Reports and Work Products

Specific reporting requirements will be identified in the EPA award agreement. The recipient will be required to submit formal semi-annual progress reports as well as a final report and copies of all work products within 90 days after the expiration of the budget period. This report will be accepted as the final report unless the EPA project officer notifies you that changes must be made.

Dated: August 15, 2000.
Gregg A. Cooke,
Regional Administrator, Region VI.

[FR Doc. 00-21919 Filed 8-25-00; 8:45 am]

BILLING CODE 6560-50-P